DEPARTMENT OF COMMERCE

National Oceanic and Atmospheric Administration

[RTID 0648-XE012]

Magnuson-Stevens Act Provisions; General Provisions for Domestic Fisheries; Coastal Pelagic Species Fishery; Applications for Exempted Fishing Permits; 2024-2025 Fishing Year

AGENCY: National Marine Fisheries Service (NMFS), National Oceanic and Atmospheric Administration (NOAA), Commerce.

ACTION: Notice of receipt of application; request for comments.

SUMMARY: The Regional Administrator, West Coast Region, NMFS, has made a preliminary determination that two exempted fishing permit (EFP) applications warrant further consideration. Both applications are from the California Wetfish Producers Association (CWPA) and request an exemption from the expected prohibition on primary directed fishing for Pacific sardine during the 2024-2025 fishing year to collect Pacific sardine as part of industry-based scientific research. NMFS requests public comment on the applications.

DATES: Comments must be received by July 26, 2024.

ADDRESSES: You may submit comments on this document, identified by NOAA-NMFS-2024-0058, by the following method:

• Electronic Submissions: Submit all public comments via the Federal e-Rulemaking Portal. Visit https://www.regulations.gov and type NOAA-NMFS-2024-0058 in the Search box. Click the “Comment” icon, complete the required fields, and enter or attach your comments. The EFP applications will be available under Supporting and Related Materials through the same link.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Katie Davis, West Coast Region, NMFS, (323) 362-2126, katie.davis@noaa.gov.

SUPPLEMENTARY INFORMATION: Approving the EFP applications would be authorized under the Coastal Pelagic Species (CPS) Fishery Management Plan (FMP) and regulations at 50 CFR 600.745, which allow NMFS Regional Administrators to authorize EFPs for fishing activities that would otherwise be prohibited.

At its April 2024 meeting, the Pacific Fishery Management Council (Council) recommended that NMFS approve two EFP applications for the 2024-2025 Pacific sardine fishing year. Both applications are from the CWPA and are renewal requests for an exemption from the expected prohibition on primary directed fishing for Pacific sardine during the 2024-2025 fishing year; the purpose of the requests are to collect Pacific sardine as part of industry-based scientific research. The Council considered these EFP applications concurrently with the 2024-2025 annual harvest specifications for Pacific sardine because Pacific sardine catch under each EFP would be accounted for under the proposed 2024-2025 annual catch limit (ACL), which is 6,005 metric tons (mt). A summary of each EFP application is provided below:

(1) Request renewal of exempted fishery permit (EFP) to allow take of Pacific sardine in point sets in 2024-2025 in support of the CPS-NCA research program: The CWPA submitted a renewal application for their CPS Nearshore Cooperative Survey (NCS) program. The purpose of this EFP project is to collect data for estimating CPS biomass in shallow waters that are not accessible to NOAA ships. The California Department of Fish and Wildlife, in partnership with the CWPA, has been conducting aerial surveys to estimate the biomass and distribution of Pacific sardine and certain other CPS in nearshore waters in the Southern California Bight since 2012, and in the Monterey-San Francisco area since the summer of 2017. The CPS-NCS survey would capture CPS schools identified by aerial spotter pilots, and weigh and sample the catch onshore to validate the biomass and species composition of the schools observed in the nearshore aerial survey. If approved, this EFP would allow up to eight participating vessels to directly harvest a total of 150 mt of Pacific sardine during the 2024-2025 fishing year. A portion of each point set (i.e., an individual haul of fish captured with a purse seine net) would be retained for biological sampling, and the remainder would be sold by participating fishermen and processors to offset research costs and avoid unnecessary discard.

(2) Request renewal of exempted fishery permit (EFP) to allow fishing of Pacific sardine for biological samples in 2024-2025 nearshore research program: The CWPA submitted a renewal application for their biological sampling EFP project. The primary directed fishery for Pacific sardine has been closed since 2015 and, consequently, scientists at the Southwest Fisheries Science Center (SWFSC) have a limited amount of fishery-dependent data to use in their stock assessment. The goal of this EFP project is to provide fishery-dependent catch data, including biological data (i.e., age and length data from directed harvest), for potential use in Pacific sardine stock assessments. If approved, this EFP would allow up to eight participating vessels to directly harvest up to 520 mt of Pacific sardine during the 2024-2025 fishing year. A portion of each landing would be retained for biological sampling by the California Department of Fish and Wildlife, and the remainder would be sold by participating fishermen and processors to offset research costs and avoid unnecessary discard.

Altogether, these EFP projects total 670 mt. If NMFS does not issue one or more of these EFPs, the requested tonnage would be available for harvest by other permissible fishing activities during the 2024-2025 fishing year (e.g., live bait or minor directed harvest).

After publication of this notice in the Federal Register, NMFS may approve and issue permits to participating vessels after the close of the public comment period. NMFS will consider comments submitted in deciding whether to approve the applications as requested. NMFS may approve the applications in their entirety or may make any alterations needed to achieve the goals of the EFP projects and the FMP. NMFS may also approve different amounts of Pacific sardine allocation for each EFP project if any changes are made to the 2024-2025 proposed sardine harvest specifications before final implementation.

Authority: 16 U.S.C. 1801 et seq.

Dated: June 21, 2024.
Karen H. Abrams,
Acting Director, Office of Sustainable Fisheries, National Marine Fisheries Service.

[FR Doc. 2024-14010 Filed 6-25-24; 8:45 am]

BILLING CODE 3510-22-P